DEPARTMENT OF HOMELAND SECURITY

Customs and Border Protection

Quarterly IRS Interest Rates Used in Calculating Interest on Overdue Accounts and Refunds on Customs Duties

AGENCY: Customs and Border Protection, Department of Homeland Security.

ACTION: General notice.

SUMMARY: This notice advises the public of the quarterly Internal Revenue Service interest rates used to calculate interest on overdue accounts (underpayments) and refunds (overpayments) of customs duties. For the calendar quarter beginning October 1, 2004, the interest rates for overpayments will be 4 percent for corporations and 5 percent for non-corporations, and the interest rate for underpayments will be 5 percent. This notice is published for the convenience of the importing public and Customs and Border Protection personnel.

EFFECTIVE DATE: October 1, 2004.

FOR FURTHER INFORMATION CONTACT: Trong Quan, National Finance Center, Collections Section, 6026 Lakeside Boulevard, Indianapolis, Indiana 46278; telephone (317) 614-4516.

SUPPLEMENTARY INFORMATION:

Background

Pursuant to 19 U.S.C. 1505 and Treasury Decision 85-93, published in the Federal Register on May 29, 1985 (50 FR 21832), the interest rate paid on applicable overpayments or underpayments of customs duties must be in accordance with the Internal Revenue Code rate established under 26 U.S.C. 6621 and 6622. Section 6621 was amended (at paragraph (a)(1)(B) by the Internal Revenue Service Restructuring and Reform Act of 1998, Public Law 105-206, 112 Stat. 685) to provide different interest rates applicable to overpayments: one for corporations and one for non-corporations.

The interest rates are based on the Federal short-term rate and determined by the Internal Revenue Service (IRS) on behalf of the Secretary of the Treasury on a quarterly basis. The rates effective for a quarter are determined during the first-month period of the previous quarter.

In Revenue Ruling 2004-92, the IRS determined the rates of interest for the calendar quarter beginning October 1, 2004, and ending December 31, 2004. The interest rate paid to the Treasury for underpayments will be the Federal short-term rate (2%) plus three percentage points (3%) for a total of five percent (5%). For corporate overpayments, the rate is the Federal short-term rate (2%) plus two percentage points (2%) for a total of four percent (4%). For overpayments made by non-corporations, the rate is the Federal short-term rate (2%) plus three percentage points (3%) for a total of five percent (5%). These interest rates are subject to change for the calendar quarter beginning January 1, 2005, and ending March 31, 2005.

For the convenience of the importing public and Customs and Border Protection personnel the following list of IRS interest rates used, covering the period from before July of 1974 to date, to calculate interest on overdue accounts and refunds of customs duties, is published in summary format.

Beginning date | Ending date | Underpayments (percent) | Overpayments (percent) | Corporate Overpayments Eff. 1-1-99) (percent)
070174 | 063075 | 6 | 6 |
070175 | 013176 | 9 | 9 |
020176 | 013178 | 7 | 7 |
020178 | 013180 | 6 | 6 |
020180 | 013182 | 12 | 12 |
020182 | 123182 | 20 | 20 |
010183 | 063083 | 16 | 16 |
070183 | 123184 | 11 | 11 |
010185 | 063085 | 13 | 13 |
070185 | 123185 | 11 | 11 |
010186 | 063086 | 10 | 10 |
070186 | 123186 | 9 | 9 |
010187 | 093087 | 9 | 8 |
100187 | 123187 | 10 | 9 |
010188 | 033188 | 11 | 10 |
040188 | 093088 | 10 | 9 |
100188 | 033189 | 11 | 10 |
040189 | 093089 | 12 | 11 |
100189 | 033191 | 11 | 10 |
040191 | 123191 | 10 | 9 |
010192 | 033192 | 9 | 8 |
040192 | 093092 | 8 | 7 |
100192 | 063094 | 7 | 6 |
070194 | 093094 | 8 | 7 |
100194 | 033195 | 9 | 8 |
040195 | 063095 | 10 | 9 |
070195 | 033196 | 9 | 8 |
040196 | 063096 | 8 | 7 |
070196 | 033198 | 9 | 8 |
040198 | 123198 | 8 | 7 |
010199 | 033199 | 7 | 7 | 6
040199 | 033100 | 8 | 8 | 7
040100 | 033101 | 9 | 9 | 8
040101 | 063001 | 8 | 8 | 7
070101 | 123101 | 7 | 7 | 6
010102 | 123102 | 6 | 6 | 5
010103 | 093003 | 5 | 5 | 4
100103 | 033104 | 4 | 4 | 3
040104 | 063004 | 5 | 5 | 4
070104 | 093004 | 4 | 4 | 3
100104 | 123104 | 5 | 5 | 4

Dated: October 12, 2004.
Robert C. Bonner,
Commissioner, Customs and Border Protection.

[FR Doc. 04-23195 Filed 10-15-04; 8:45 am]

BILLING CODE 4820-02-P